DEPARTMENT OF HOUSING AND URBAN DEVELOPMENT

[Docket No. FR-5288-N-02]

Notice of Proposed Information Collection for Public Comment; Indian Housing Block Grant Information Collection

AGENCY: Office of the Assistant Secretary for Public and Indian Housing, HUD.

ACTION: Notice of proposed information collection.

SUMMARY: The proposed information collection requirement described below will be submitted to the Office of Management and Budget (OMB) for review, as required by the Paperwork Reduction Act. The Department is soliciting public comments on the subject proposal.

DATES: Comments Due Date: May 29, 2009.

ADDRESSES: Interested persons are invited to submit comments regarding this proposal. Comments should refer to the proposal by name/or OMB Control number and should be sent to: Lillian L. Deitzer, Departmental Reports Management Officer, QDAM, Department of Housing and Urban Development, 451 7th Street, SW., Room 4178, Washington, DC 20410-5000; telephone 202.402.8048, (this is not a toll-free number) or e-mail Ms. Deitzer at Lillian.L.Deitzer@hud.gov for a copy of the proposed forms, or other available information.

FOR FURTHER INFORMATION CONTACT: Dacia Rogers, Office of Policy, Programs and Legislative Initiatives, PIH, Department of Housing and Urban Development, 451 7th Street, SW., Room 4116, Washington, DC 20410; telephone 202-708-0713, (this is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice also lists the following information:

Title of Proposal: Indian Housing Block Grant Information Collection.

OMB Control Number: 2577-0218.

Description of the Need for the Information and Proposed Use: Section 102 of the Native American Housing Assistance and Self-Determination Reauthorization Act of 2008 (NAHASDA) requires that an Indian Tribe or Tribally designated housing entity for the Tribe submit an Indian Housing Plan (IHP), form HUD-52735. The IHP provides a description of how the Tribe or housing entity will use the Indian Housing Block Grant (IHBG) funds to provide affordable housing for its low to moderate income Tribal members. The IHP will be reviewed on a limited basis to determine that the planned activities are in compliance with NAHASDA requirements, as defined at 24 CFR Part 1000.

Section 404 of NAHASDA requires the IHBG recipient to review progress made on implementing the IHP and submit an Annual Performance Report (APR), form HUD-52735-AS. The APR is to include a description of how the IHBG funds were used and to correlate the uses of the funds to the goals and objectives in the IHP. The regulations authorize HUD to extend the APR due date if the recipient submits a justified request. The information in the APR will be used to review the recipient's progress in implementing the IHP, determine if the activities are eligible and to determine if the recipient has the capacity to continue implementing the IHP in a timely manner. The information in the APR also will be used to provide Congress, stakeholders, and other interested parties with information on how the IHBG funds are being used to meet affordable housing needs within Native American communities.

Throughout the year, the recipient is to submit quarterly a Federal Cash Transactions Report (HUD-272-I) that provides a snapshot of the grant funds drawn from the recipient's line of credit (Title 24 CFR 85.41 (c)). HUD uses the financial information to monitor IHBG expenses, investments, and activities.

Participants in the IHBG program are responsible for notifying HUD of changes to the Formula Current Assisted Stock (FCAS) component of the IHBG formula. HUD is notified of changes in the FCAS through a Formula Response Form (HUD-4117), as defined at 24 CFR 1000.302. A Tribe, TDHE, or HUD may challenge the data from the U.S. Decennial Census or provide an alternative source of data by submitting the Guidelines for Challenging U.S. Decennial Census Data Document (HUD-4119). Census challenges are due June 15 of each fiscal year, as defined at 24 CFR 1000.336. This information collection is required of participants in the IHBG program to demonstrate compliance with eligibility and other requirements of NAHASDA; provision of correction or challenge documentation of the formula calculation; and provision of data for HUD's annual report to Congress. The information gathered will be used to allocate funds under the IHBG program. The quality assurance of data reported is a very important issue in maintaining HUD's databases used to monitor participant's proposed plans, accomplishments, determine program compliance, and to ensure fair and equitable allocations. In some cases, the FCAS information addressing the conveyances and conversions of units has resulted in the recouping of funds. The information collected will allow HUD to accurately audit the program.

Agency Form Number: HUD-52735, HUD 52735-AS, HUD-272-I, HUD-4117, HUD-4119.

Members of Affected Public: Native American Tribes and Tribally Designated Housing Entities, Alaska Natives and Corporations, and Native Hawaiians.

Estimation of the Total Number of Hours Needed To Prepare the Information Collection Including Number of Respondents, Frequency of Response, and Hours of Response
Type of submission | Number of respondents | Frequency of response | Estimated hours to complete | Estimated annual burden in hours
HUD-52735 | 366 | 1 | 120 | 43,920
HUD-52735-AS | 366 | 1 | 120 | 43,920
HUD-272-I | 366 | 4 | 2 | 2,928
HUD-4117 | 579 | 1 | .5 | 290
HUD-4119 | 15 | 1 | 150 | 2,250
Total | 579 |  |  | 93,308

Status of the Proposed Information Collection: Revision of currently approved collection.

Authority: Section 3506 of the Paperwork Reduction Act of 1995, 44 U.S.C. Chapter 35, as amended.

Dated: March 24, 2009.
Merrie Nichols-Dixon,
Deputy Director for Policy, Program and Legislative Initiatives.

[FR Doc. E9-6945 Filed 3-27-09; 8:45 am]

BILLING CODE 4210-67-P